DEPARTMENT OF JUSTICE

Notice of Lodging of Consent Decree Under the Clean Water Act

In accordance with United States Department of Justice policy, 28 CFR 50.7, notice is hereby given that on September 15, 2004, a proposed Consent Decree in United States v. Old Dutch Mustard Company, Inc., d/b/a Pilgrim Foods (“Pilgrim”), Civil Action No. 1:04-CV-346, was lodged with the United States District Court for the District of New Hampshire.

The Consent Decree resolves Clean Water Act claims arising from Pilgrim's operation of a food processing plant in Greenville, New Hampshire. the Complaint alleges: (1) A failure to apply for a NPDES permit for storm water discharges to a brook from a vinegar tank farm storage area; (2) discharge of storm water from the tank farm area without a permit; (3) the direct discharge of certain process waste waters to the brook without a permit; (4) an oil spill which occurred in 1998; and (5) failure to timely prepare an oil spill prevention, control, and countermeasure (SPCC) plan in relation to Pilgrim's oil storage facilities on the site.

The Consent Decree imposes civil penalties in the amount of $190,000 and injunctive relief including construction of berms around the tank farm, other material storage areas, and hazardous substance storage tanks; completion of improvements to liquid materials and products delivery, conveyance, storage, and loading systems; and revision of the SPCC plan.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Old Dutch Mustard Company, Inc., d/b/a Pilgrim Foods, (U.S.D.C., D.N.H.), D.O.J. Ref. #90-5-1-1-07145.

The Consent Decree may be examined at the Office of the United States Attorney, Federal Building, 55 Pleasant Street, Concord, New Hampshire, 03301 and at the Region I Office of the Environmental Protection Agency, One Congress Street, Suite 110-SEL, Boston, MA 02114-2023. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood tonia.fleetwood@usdoj.gov, fax no (202) 514-0097, phone confirmation number (202) 514-1547. In requesting a copy from the Consent Decree Library, please enclose a check in the amount of $15.75 (25 cents per page reproduction cost) payable to the U.S. Treasury.

Ronald G. Gluck,
Assistant Chief, Environmental Enforcement Section, Environment and Natural Resources Division.

[FR Doc. 04-21306 Filed 9-22-04; 8:45 am]

BILLING CODE 4410-15-M